DEPARTMENT OF TRANSPORTATION

Office of the Secretary

Aviation Proceedings, Agreements Filed the Week Ending August 6, 2004

The following Agreements were filed with the Department of Transportation under the provisions of 49 U.S.C. 412 and 414. Answers may be filed within 21 days after the filing of the application.

Docket Number: OST-2004-18797.

Date Filed: August 3, 2004.

Parties: Members of the International Air Transport Association.

Subject:

PTC23 ME-TC3 0205 dated August 3, 2004.

Mail Vote 400 Resolution 010r, TC23 Special Passenger Amending Resolution, from Hong Kong SAR to Middle East rl, Intended effective date: August 15, 2004.

Docket Number: OST-2004-18859.

Date Filed: August 5, 2004.

Parties: Members of the International Air Transport Association.

Subject:

PAC/Reso/429 dated June 29, 2004.

Finally Adopted Resolutions r1-r29, PAC/Meet/185 dated June 29, 2004, Intended effective date: January 1, 2005.

Andrea M. Jenkins,
Program Manager, Docket Operations, Federal Register Liaison.

[FR Doc. 04-18902 Filed 8-17-04; 8:45 am]

BILLING CODE 4910-62-P